DEPARTMENT OF STATE

[Public Notice 6416]

United States-Egypt Science and Technology Joint Board; Public Announcement of a Science and Technology Program for Competitive Grants To Support Junior Scientist Development Visits by U.S. and Egyptian Scientists

AGENCY: Department of State.

ACTION: Notice.

DATES: Effective Date: September 11, 2008.

FOR FURTHER INFORMATION CONTACT: Nancy Ahson, PhD, Program Administrator, U.S.-Egypt Science and Technology Grants Program, USAID/Cairo, Unit 64902, Box 5, APO AE 09839-4902; phone: 011 (20-2) 2522-6887; fax: 011 (20-2) 2522-7041; E-mail: stfund@usaid.gov.

The 2008 Program guidelines for Junior Scientist Development visits will be available starting September 11, 2008 on the Joint Board Web site: http://cairo.usembassy.gov/usegypt/jrgrants.htm.

SUPPLEMENTARY INFORMATION:

Authority: This program is established under 22 U.S.C. 2656d and the Agreement for Scientific and Technological Cooperation between the Government of the United States of America and the Government of the Arab Republic of Egypt.

A solicitation for this program will begin September 11, 2008. This program will provide modest grants for successfully competitive proposals for development visits by U.S. Junior Scientists to Egypt and Junior Egyptian Scientists to the United States. Applicants must be scientists who have received their PhD within the past ten years. U.S. applicants only may have a Master's degree or be currently enrolled in a PhD program. Applications considered for funding must be postmarked by November 15, 2008. All proposals which fully meet the submission requirements will be considered. More information and copies of the Program Announcement and Application may be obtained upon request.

FOR FURTHER INFORMATION CONTACT: Please contact Chair of U.S.-Egypt S&T Joint Board William Lawrence, Office of Science and Technology Cooperation, Bureau of Oceans, Environment and Science, U.S. Department of State at (202) 663-2619 or e-mail: LawrenceWA@state.gov.

Dated: October 23, 2008.
Robert S. Senseney,
Acting Director, Office of Science and Technology Cooperation, Bureau of Oceans, Environment and Science, Department of State.

[FR Doc. E8-25932 Filed 10-29-08; 8:45 am]

BILLING CODE 4710-09-P